DEPARTMENT OF ENERGY

Record of Decision for the Uranium Leasing Program Programmatic Environmental Impact Statement

AGENCY: Office of Legacy Management, Department of Energy.

ACTION: Record of Decision.

SUMMARY: The U.S. Department of Energy (DOE) announces its decision to continue management of the Uranium Leasing Program (ULP) for 31 lease tracts for the next 10 years, consistent with DOE's preferred alternative identified in the Final Uranium Leasing Program Programmatic Environmental Impact Statement (Final ULP PEIS) (DOE/EIS-0472). DOE prepared the Final ULP PEIS to evaluate the reasonably foreseeable environmental impacts, including the site-specific impacts, of the range of reasonable alternatives for the management of the ULP. Under the ULP, DOE administers 31 tracts of land covering an aggregate of approximately 25,000 acres (10,000 ha) in Mesa, Montrose, and San Miguel Counties in western Colorado for exploration, mine development and operations, and reclamation of uranium mines. There are currently 29 tracts that have been leased; the two other tracts have not been leased. Analyses in the Final ULP PEIS were based on site-specific information available on the 31 lease tracts (including current lessee information and status, size of each lease tract, previous mining operations that occurred, location of existing permitted mines and associated structures, and other environmental information) and additional information on uranium mining from other references and cooperating agency input. As plans for exploration, mine development and operation, or reclamation are submitted by the lessees to DOE for approval, further National Environmental Policy Act (NEPA) analyses will be prepared for each plan and will be tiered from the analyses contained in the Final ULP PEIS.

“The 31 leases currently in existence” under the ULP are stayed by an Order issued by the U.S. District Court for the District of Colorado (Colorado Environmental Coalition v. DOE, 819 F. Supp. 2d 1193, 1224 (D. Colo. 2011)). The Court also enjoined DOE from issuing any new leases and from approving any activities on lands governed by the ULP. The Court also ordered that after DOE conducts an environmental analysis that complies with NEPA, the Endangered Species Act (ESA), all other governing statutes and regulations, and the Court's Order, DOE could then request a dissolution of the injunction.

The Court later amended its injunction to allow DOE, other Federal, state, or local governmental agencies, and/or the ULP lessees to conduct only those activities on ULP lands that are absolutely necessary. DOE will implement this ROD only after the U.S. District Court for the District of Colorado has dissolved the injunction that it issued on October 18, 2011.

DOE has complied with Executive Order (E.O.) 13175, Section 7 of the ESA, and Section 106 of the National Historic Preservation Act (NHPA) by completing its consultations with tribal governments, with the U.S. Fish and Wildlife Service (USFWS), and with tribes, government agencies, and local historical groups.

ADDRESSES: The Final ULP PEIS and this ROD are available on DOE's NEPA Web site at http://energy.gov/nepa/nepa-documents; on the DOE Legacy Management (LM) Web site at http://energy.gov/lm/office-legacy-management; and on the ULP PEIS Web site at http://ulpeis.anl.gov. Requests for copies of these documents may be submitted through the ULP PEIS Web site at http://ulpeis.anl.gov; or by contacting Dr. David Shafer by electronic mail: David.Shafer@lm.doe.gov.

FOR FURTHER INFORMATION CONTACT: To obtain additional information about the ULP, the PEIS, or the ROD, contact Dr. David Shafer, LM Asset Management Team Lead, as indicated under ADDRESSES above. For general information about the DOE NEPA process, contact Ms. Carol Borgstrom, Director, Office of NEPA Policy and Compliance (GC-54), U.S. Department of Energy, 1000 Independence Avenue SW., Washington, DC 20585; telephone: 202-586-4600; email: askNEPA@hq.doe.gov; fax: 202-586-7031; or leave a toll-free message at 1-800-472-2756.

SUPPLEMENTARY INFORMATION: DOE prepared the ULP PEIS and this ROD pursuant to the National Environmental Policy Act of 1969 (42 United States Code [U.S.C.] §§ 4321, et seq.), and in compliance with the Council on Environmental Quality (CEQ) implementing regulations for NEPA (40 Code of Federal Regulations [CFR] Parts 1500 through 1508), and DOE's implementing procedures for NEPA (10 C.F.R. Part 1021). This ROD is based on DOE's Final ULP PEIS.

Background

Congress authorized DOE's predecessor agency, the U.S. Atomic Energy Commission (AEC), to develop a supply of domestic uranium. The aggregated acreage managed by AEC totaled approximately 25,000 acres (10,000 ha) in Mesa, Montrose, and San Miguel Counties in western Colorado. Beginning in 1949, the AEC and its successor agencies, the U.S. Energy Research and Development Administration and DOE, administered three separate and distinct leasing programs during the ensuing 60 years. In July 2007, DOE issued a programmatic environmental assessment (PEA) for the ULP, in which it examined three alternatives for the management of the ULP for the next 10 years. In that same month, DOE issued a Finding of No Significant Impact (FONSI), in which DOE announced its decision to proceed with the Expanded Program Alternative, and also determined that preparation of an environmental impact statement (EIS) was not required. Under the Expanded Program Alternative, DOE would extend the 13 existing leases for a 10-year period and would also expand the ULP to include the competitive offering of up to 25 additional lease tracts to the domestic uranium industry. In 2008, DOE implemented the Expanded Program Alternative and executed new lease agreements with the existing lessees for their 13 respective lease tracts, effective April 30, 2008. In addition, DOE offered the remaining, inactive lease tracts to industry for lease through a competitive solicitation process for 19 leases (some leases combined a number of the lease tracts). That process culminated in the execution of 18 new lease agreements for the inactive lease tracts, effective June 27, 2008. Since that time, two lease tracts were combined into one and another lease was relinquished back to DOE. Accordingly, there are 29 lease tracts that are actively held under lease, and 2 lease tracts that are currently inactive.

On June 21, 2011, DOE published the Notice of Intent (NOI) to prepare the ULP PEIS (see Volume 76, page 36097 of the Federal Register [76 FR 36097]). In the NOI, DOE stated that it had determined, in light of the site-specific information that DOE had gathered as a result of the site-specific agency actions proposed and approved pursuant to the July 2007 PEA, that it was appropriate for DOE to prepare a PEIS in order to analyze the reasonably foreseeable environmental impacts, including potential site-specific impacts, of the range of reasonable alternatives for the management of the ULP for the remainder of the 10-year period that was covered by the July 2007 PEA. After DOE published the NOI, it notified the ULP lessees that until the PEIS process was completed, DOE would not approve any new exploration and mining plans and would not require any lessees to pay royalties.

Colorado Environmental Coalition and three other plaintiffs filed a complaint against DOE in the U.S. District Court for the District of Colorado on July 31, 2008, alleging, among other things, that DOE's July 2007 PEA and FONSI violated NEPA by failing to consider adequately the environmental impacts of expansion of the ULP, and violated the ESA by jeopardizing endangered species. On October 18, 2011, the Court issued an Order in which it held, among other things, that DOE had violated NEPA by issuing its July 2007 PEA and FONSI instead of preparing an EIS, and that DOE had failed to consult with the USFWS as required by the ESA. Colorado Environmental Coalition v. DOE, 819 F. Supp. 2d 1193, 1208-14, 1220-23 (D. Colo. 2011). In that Order, the Court invalidated the July 2007 PEA and FONSI; stayed “the 31 leases currently in existence” under the ULP; enjoined DOE from issuing any new leases on lands governed by the ULP; enjoined DOE from approving any activities on lands governed by the ULP; and ordered that after DOE conducts an environmental analysis that complies with NEPA, the ESA, all other governing statutes and regulations, and the Court's Order, DOE could then move the Court to dissolve its injunction. Id. at 1224-25.

The Court later granted in part DOE's motion for reconsideration of that Order and amended its injunction to allow DOE, other Federal, state, or local governmental agencies, and/or the ULP lessees to conduct only those activities on ULP lands that are absolutely necessary: (1) To conduct DOE's environmental analysis regarding the ULP; (2) to comply with orders from Federal, state, or local government regulatory agencies; (3) to remediate certain dangers to public health, safety, and the environment on ULP lands; or (4) to conduct certain activities to maintain the ULP lease tracts and their existing facilities. Colorado Environmental Coalition v. DOE, No. 08-cv-1624, 2012 U.S. Dist. LEXIS 24126, at ** 10-15 (D. Colo. Feb. 27, 2012).

Purpose and Need for Agency Action

The underlying purpose and need for agency action is to support the implementation of the Atomic Energy Act of 1954, as amended (AEA), which authorized and directed DOE to develop a supply of domestic uranium (42 U.S.C. 2096), and “to issue leases or permits for prospecting for, exploration for, mining of, or removal of deposits of source material in lands belonging to the United States” to the extent that DOE deems it necessary to effectuate the provisions of the AEA (42 U.S.C. 2097). Congress further recognized the importance of developing a supply of domestic uranium and other source material when it stated in the AEA, in its Congressional findings, that the processing of source material must be regulated “in order to provide for the common defense and security” (42 U.S.C. 2012(d)). In addition, the Energy Policy Act of 2005 (Public Law 109-58) (EPAct) expressed a continued commitment to “decreasing the dependence of the United States on foreign energy supplies” (42 U.S.C. 16181(a) (3)); and to “[e]nhancing nuclear power's viability as part of the United States energy portfolio” (42 U.S.C. 16271(a)(1)). The ULP contributes to the development of a supply of domestic uranium consistent with the provisions of the AEA and EPAct. In support of these statutes, DOE needs to determine the future course of the ULP, including whether to continue leasing some or all of the withdrawn lands and other claims for the exploration and production of uranium and vanadium ores.

Proposed Action

DOE's proposed action in the ULP PEIS was to decide whether to continue the ULP and, if it decided to continue the ULP, to determine which alternative to adopt in order to manage the ULP.

Alternatives

DOE evaluated five alternatives that represent the range of reasonable alternatives for the future course of the ULP. DOE developed these alternatives by carefully considering the need to develop a supply of domestic uranium (consistent with the AEA and the EPAct), and comments received during the public scoping and public comment periods. The five alternatives are:

1. Alternative 1: DOE would terminate all leases, and all operations would be reclaimed by lessees. DOE would continue to manage the withdrawn lands, without uranium leasing, in accordance with applicable requirements.

2. Alternative 2: Same as Alternative 1, except once reclamation was completed by lessees, DOE would relinquish the lands in accordance with 43 CFR Part 2370. If the Department of the Interior/Bureau of Land Management (DOI/BLM) determines, in accordance with that same Part of the CFR, the lands were suitable to be managed as public domain lands, they would be managed by BLM under its multiple use policies. DOE's uranium leasing program would end.

3. Alternative 3: DOE would continue the ULP as it existed before July 2007, with the 13 active leases, for the next 10-year period or for another reasonable period, and DOE would terminate the remaining leases.

4. Alternative 4 (DOE's preferred alternative identified in the Final ULP PEIS): DOE would continue the ULP with the 31 lease tracts for the next 10-year period or for another reasonable period.

5. Alternative 5: This is the No Action Alternative, under which DOE would continue the ULP with the 31 lease tracts for the remainder of the 10-year period, and the leases would continue exactly as they were issued in 2008.

Environmentally Preferred Alternative

The analyses in the Final ULP PEIS show that potential environmental impacts on the resource areas analyzed for the five alternatives range from “negligible to moderate.” Further, the potential environmental impacts would be mitigated as discussed in this ROD. However, there are some differences among the alternatives. For example, Alternative 5 would result in the greatest potential for impacts of all the alternatives because the assumptions used as the basis for analysis would potentially result in the most activities, the largest area of disturbance, the most ore tonnage excavated and transported, and the most water used. DOE considered two alternatives, Alternatives 1 and 2, which would require immediate reclamation of areas where it is needed and subsequent termination of the leasing. Alternative 1 would result in the least potential environmental impacts of the five alternatives analyzed in detail in the PEIS, and DOE therefore regards it as the environmentally preferred alternative. The potential impacts from Alternative 2 would be identical to Alternative 1 in the short term; however, there could be additional potential impacts under Alternative 2 in the future if the lease tracts would ultimately be transferred to BLM depending on future activities that might be conducted.

DOE did not select Alternative 1 because that alternative would not meet DOE's purpose and need. In contrast, the alternative selected in this ROD will meet DOE's purpose and need, while resulting in potential environmental impacts that were determined to be “negligible to moderate.” Additionally, mitigation measures will reduce the likelihood of these potential environmental impacts occurring.

EIS Process

The NOI published on June 21, 2011, began a 78-day public scoping period that ended on September 9, 2011. All scoping comments received were considered in the preparation of the Draft PEIS. A Notice of Availability (NOA) for the Draft ULP PEIS was published in the Federal Register on March 15, 2013 (78 FR 16483), and this began a 109-day public comment period that ended July 1, 2013. All comments received on the Draft ULP PEIS were considered in the preparation of the Final ULP PEIS.

DOE distributed copies of the Draft ULP PEIS to those organizations and government officials known to have an interest in the PEIS and to those organizations and individuals who requested a copy. The Draft ULP PEIS was reviewed by other Federal agencies, states, American Indian tribal governments, local governments, and the public. Copies were also made available on the ULP Web site (http://www.ulpeis.anl.gov/), the DOE NEPA Web site (http://energy.gov/nepa/), and in regional DOE public document reading rooms and public libraries. Announcements indicating the availability of the Draft ULP PEIS and the dates and times of the public hearings were published in local newspapers. Four public hearings were held in four locations in Colorado. The transcripts for the four hearings are posted on the project Web site.

Federal, state, and county agencies and tribal nations participated either as a cooperating agency or commenting agency in the development and preparation of the ULP PEIS. Since January 2012, monthly, as appropriate, telephone conferences have been held among DOE and the cooperating agencies to develop the ULP PEIS. These cooperating agencies participated by reviewing and commenting on ULP PEIS analyses and documentation, as well as providing supporting information. The following government agencies and tribal groups have participated as cooperating agencies by providing their expertise and knowledge about various areas required during the preparation of the ULP PEIS: (1) BLM, (2) U.S. Environmental Protection Agency (EPA), (3) Colorado Department of Transportation, (4) Colorado Division of Reclamation, Mining, and Safety (CDRMS), (5) Colorado Parks and Wildlife, (6) Mesa County Commission, (7) Montrose County Commissioners, (8) San Juan County Commission, (9) San Miguel County Board of Commissioners, (10) Navajo Nation, (11) Pueblo of Acoma, (12) Pueblo de Cochiti, (13) Pueblo de Isleta, and (14) Southern Ute Indian Tribe. The following agencies and tribal groups chose to participate as commenting agencies, and they were included in the project distribution list and received the Draft ULP PEIS for review and comment: (1) USFWS, (2) U.S. Nuclear Regulatory Commission, (3) Colorado Department of Public Health and Environment, (4) Utah Department of Transportation, (5) Hopi Nation, (6) Ute Indian Tribe, (7) Ute Mountain Ute Tribe, and (8) White Mesa Ute Community.

DOE has complied with E.O. 13175, Consultation and Coordination with Indian Tribal Governments, by conducting government-to-government consultations with tribal governments. The government-to-government relationship with Indian tribes was formally recognized by the Federal Government with E.O. 13175 on November 6, 2000, and DOE is coordinating and consulting with Indian tribal governments, Indian tribal communities, and tribal individuals whose interests might be directly and substantially affected by activities on the ULP lands. As part of this consultation, DOE has contacted 25 Indian tribal governments to communicate the opportunities for government-to-government consultations by participating in the planning and resource management decision-making throughout the ULP PEIS process. Five are participating as cooperating agencies, and four are participating as commenting agencies.

In compliance with Section 7 of the ESA, DOE considered the effect of its management of the ULP on species listed under the ESA, and consulted with the USFWS to ensure that the actions that DOE funds, authorizes, or permits are not likely to jeopardize the continued existence of any listed species or result in the destruction or adverse modification of the critical habitat of such species. DOE and the USFWS completed their consultation, which included DOE submitting its final biological assessment to the USFWS on May 14, 2013. The USFWS issued its biological opinion on August 19, 2013.

DOE has completed programmatic consultation, in compliance with Section 106 of the NHPA, concerning DOE's management of the ULP, and has signed a Programmatic Agreement (PA) to govern the ULP activities. A PA was deemed appropriate as DOE expects the historic properties to be similar and repetitive or regional in scope, and the effects cannot be fully determined at this time prior to submittal of site-specific plans.

The NOA for the Final ULP PEIS was published in the Federal Register on March 21, 2014 (79 FR 15741).

Comments Received on the Final PEIS

DOE received three letters regarding the Final ULP PEIS, which were considered in developing this ROD. The letters were from the Hopi Tribe, the Western Colorado Congress (WCC), and the EPA. These letters did not present significant new circumstances or information that would warrant a supplemental EIS pursuant to CEQ and DOE NEPA implementing regulations [40 CFR 1502.9(c) and 10 CFR 1021.314(a)].

The Hopi Tribe stated its longstanding concerns about adverse impacts of past uranium mining on the land, water, and people, and that past contamination from uranium mining should be cleaned up before any additional mining is approved. The Hopi Tribe also expressed strong opposition to Alternatives 3, 4, and 5, and stated that, if DOE selects Alternative 4, the Tribe expects continuing consultation regarding cultural resource survey reports and treatment plans for the mitigation of adverse effects to National Register eligible prehistoric areas and Hopi Traditional Cultural Properties that may exist in areas that cannot be avoided by ground disturbing activities.

Consistent with the PA, DOE will consult with the Hopi Tribe in identifying properties of traditional religious and cultural importance listed in or eligible for listing in areas of potential effects, assessing the effects on those properties, and developing appropriate mitigation strategies for individual undertakings.

WCC indicated in their letter that they continued to have concerns related to the prospect of increased uranium mining in western Colorado, expressed their disappointment that DOE continued to support Alternative 4, and stated that WCC could not support any new mining endeavors until all abandoned uranium mines are cleaned up. WCC also expressed concerns with “booms and busts” in the uranium industry and indicated that Alternative 4 would continue to tie up the lands in the area to an unstable uranium market and impact other forms of development. Further, WCC indicated they understood the rationale that the analysis of uranium markets, long-term economics, transportation corridors, and public health did not fit within DOE's “Purpose and Need,” but they disagreed with this approach. WCC expressed their appreciation that DOE included more site specific data in the Final PEIS but stated that the changes did not address the full breadth of their comments and concerns with Alternative 4. In addition, WCC noted that DOE did not preclude development of alternative energy projects on ULP lands and expressed hope that the ULP PEIS can be a step forward to creating a transparent process that leads to a uniform and modern standard for all abandoned uranium mines in Colorado.

DOE understands and agrees with WCC's concern with the need to reclaim all the abandoned uranium mines in the Colorado Plateau and appreciates WCC recognition that DOE has reclaimed all legacy mines within the ULP program areas. While DOE did not evaluate the economics of the uranium market, DOE did evaluate the potential impacts of the alternatives on transportation, socioeconomics, and human health, and the potential cumulative impacts of the ULP. These impacts were determined to be “negligible to moderate,” and DOE will require mitigation measures to avoid or minimize the environmental impacts from specific future ULP activities. DOE appreciates WCC's vision that the ULP PEIS can be a step forward to a transparent process for a uniform and modern standard of reclamation for abandoned mines. DOE believes the ULP program can also be a step forward for modern and environmentally sensitive uranium mine exploration and development in addition to reclamation.

The EPA Region 8, in its letter, indicated that DOE worked diligently to address EPA concerns on the Draft PEIS by providing additional information in the Final PEIS. EPA expressed their appreciation for the revisions made in the Final PEIS and as a result had no comments on the Final PEIS.

DOE appreciates EPA's diligence in working with DOE to assure that the PEIS provided a thorough analysis of potential impacts and clearly communicated the results. EPA also helped DOE to clarify and identify mitigation measures to reduce the potential impacts.

Decision

DOE has decided to continue the ULP with the 31 lease tracts for the next 10-year period beginning with the publication of this ROD in the Federal Register. Alternative 4, the alternative selected in this ROD, will result in “negligible to moderate” potential environmental impacts and will provide access to a domestic source of uranium consistent with the purpose and need stated in the Final PEIS. To be more transparent, DOE decided to set a specific timeframe of 10 years in this decision, even though Alternative 4 in the PEIS allowed the program to continue “for the next 10-year period or for another reasonable period.”

DOE will implement this ROD only after the U.S. District Court for the District of Colorado has dissolved the injunction that it issued on October 18, 2011. In the continuation of the ULP, DOE will evaluate the 31 lease tracts by considering individual tract management issues, such as whether to lease the tracts that are presently not leased, and whether potential future requests for lease transfers will be approved. In implementing this decision, leases will be modified, as needed, to include mitigation measures described in the ULP PEIS. DOE will prepare a Mitigation Action Plan (MAP) as described below under Mitigation. As plans for exploration, mine development and operation, or reclamation are submitted by the lessees to DOE for approval, further NEPA analyses for these actions will be prepared and tiered from the Final ULP PEIS. The level of follow-on NEPA analyses will depend on the action being proposed by the lessees. For mining plans to be submitted for approval, DOE will prepare, at a minimum, an environmental assessment with appropriate public involvement to further evaluate potential site impacts. These NEPA analyses will be prepared to inform DOE's decisions on approval of the plans, including the conditions DOE will require to mitigate potential environmental impacts. DOE will conduct further consultations regarding cultural and endangered species, as appropriate, depending on the specific action.

Program Implementation

As described in Alternative 4 in the Final PEIS, all 31 lease tracts will be available for potential exploration and mining of uranium ores. Leases on the ULP lease tracts will be continued for the next 10 years. Two of the 31 lease tracts (Lease Tract 8A and Lease Tract 14) are currently not leased. Lease Tract 8A is a small tract that is isolated and may be located entirely below or outside the uranium-bearing formation, which could indicate a lack of ore. Lease Tract 14 is composed of three parcels (14-1, 14-2, and 14-3). There was some interest in Parcels 14-1 and 14-2 by potential lessees in the past; however, the third parcel (14-3, which lies east of 14-1) is located almost entirely within the Dolores River corridor and has never been leased. The leases stipulate that no new mining activity could be conducted within 0.25 mi (0.4 km) of the Dolores River.

Eight of the lease tracts (5, 6, 7, 8, 9, 11, 13, and 18) contain one or more existing mines that operated in the past under DOE's approval and are currently permitted by CDRMS. Three lease tracts (13A, 21, and 25) have existing mine sites that have been fully reclaimed in accordance with existing environmental requirements and DOE lease stipulations; however, these mine sites currently remain permitted by CDRMS.

The lessees have submitted no new project-specific plans to DOE with regard to where and how many mines might be developed and operated in the near future. For the purposes of analysis in the ULP PEIS, DOE conservatively assumed, based on past practices, that there would be a total of 19 mines operating at various production rates during a peak year of operations. That is, the 19 mines would comprise 6 small, 10 medium, 2 large, and 1 very large (open-pit JD-7 mine). It was further assumed that there would be a smaller number of mines in operation in years other than the peak year, and that the peak year could occur more than once (i.e., there could be multiple years with the same number of mines operating at similar ore production rates). It was expected that the potential environmental impacts for years other than the peak year(s) would fall within the range of impacts discussed for a peak year in the ULP PEIS. Therefore, the potential environmental impacts for the entire 10-year lease period would be expected to be no more than 10 times those for the peak year.

For the exploration phase of a mine, it is assumed that a total of 0.33 acre (0.13 ha), 1.1 acre (0.44 ha), and 0.33 acre (0.13 ha) of surface would be disturbed for the new 6 small, 10 medium, and 2 large mines respectively. For the very large mine, 210 acres (92 ha) have already been disturbed at the JD-7 surface open-pit mine. A total of 20 workers would be required to conduct the exploration phase for the mines assumed for the peak year (not including the very large open-pit mine at JD-7, for which exploration was assumed to have been completed).

The total area disturbed for Alternative 4 will be approximately 460 acres (190 ha). Total tonnage of ore generated for the peak year of operation will be about 480,000 tons. The number of workers needed for mine development and operations will depend on the size of the mine and could vary from 7 to 51 workers. It is assumed that 7, 11, 17, and 51 workers will be needed for each small, medium, large, and very large mine, respectively. These workers will consist mostly of mine workers. A peak year of operation for 19 mines will involve about 237 workers.

Equipment needed for mine development and operations will include both underground and surface equipment. Water will also be needed and will be trucked to the location of the activities. The annual amount of water needed for the 19 mines during the peak year assumed for this action is estimated to be about 6,300,000 gal (19 ac-ft.). Retention ponds will be required to capture surface water and prevent sediment from entering nearby streams and drainages. Reclamation of the mine operations will involve about 39 workers over the course of a peak year. It is assumed that there will be a waiting period of up to 2 years to account for verification of adequate revegetation and obtaining the necessary release and approval.

Based on historical and existing mine development, it is expected, and the analysis assumes, that the mines will be underground, with the exception of the JD-7 mine on Lease Tract 7, which is a surface open-pit mine.

Mitigation

During lease implementation, DOE will require specific measures to be identified to ensure that potential environmental impacts from specific future ULP activities are avoided or minimized consistent with the mitigation measures in the Final ULP PEIS. DOE's decision incorporates all practicable means to avoid or minimize adverse environmental impacts during exploration, mining operations, and reclamation associated with the ULP. All activities associated with the ULP will be conducted to ensure that conditions are protective of the environment and human health. DOE will ensure implementation of the mitigation measures identified in the Final ULP PEIS (section 4.6), as appropriate. Mitigation measures will ensure that risks from potential exposures under foreseeable end-state scenarios analyzed in the ULP PEIS (i.e., a recreational visitor scenario at the mine site footprint and within the lease tracts, and a resident scenario for outside the lease tracts) will be very small. These measures are identified in current leases or will be added to the leases.

These and other mitigation measures address potential impacts to human health, transportation, and the various environmental resources as follows: (1) Reduce dust emissions, (2) identify and protect paleontological resources, (3) protect soil from erosion, (4) minimize the extent and amount of ground disturbance, (5) restore original grade and reclaim soil and vegetation, (6) protect wildlife and wildlife habitats, (7) minimize lighting to off-site areas, (8) protect human health by minimizing radiological exposure, and (9) assure safe and proper transport of generated ore.

Mitigation measures identified in the Final ULP PEIS and in the leases will be addressed in a MAP. DOE will prepare the MAP, consistent with 10 CFR 1021.331, to establish how the mitigation measures will be planned, implemented, and monitored. Compliance measures identified in the Final ULP PEIS will not be included in the MAP because they are legal requirements irrespective of the MAP. Lease stipulations will be in place to reinforce these legal requirements. DOE will ensure that the lessees fulfill the mitigation measures specified in this ROD and in the MAP, which is under development. DOE will make the MAP available to the public via the Web sites listed under ADDRESSES above.

Basis for Decision

In making this decision, DOE has carefully considered all public comments, the results of the Final ULP PEIS evaluation, the biological opinion issued by the USFWS based on the ESA consultation, and the establishment of the PA consistent with Section 106 of the NHPA. DOE believes that uranium mining activities at the ULP lease tracts can continue to be conducted in a manner that is protective of the environment and public health. This decision supports the AEA provisions that authorize and direct DOE to develop a supply of domestic uranium, and to issue leases or permits for prospecting, exploration, mining, or removal of deposits of uranium ore in lands belonging to the United States. An active ULP program will be more successful in meeting these needs than would an inactive program. Although Alternatives 3 and 5 considered in the PEIS also provided an active ULP program, this decision provides access to a greater supply of domestic uranium from the lease tracts compared to Alternative 3, could create about 229 direct jobs and 152 indirect jobs, generates about $14.8 million in income, provides royalties from the leases to the Federal Government, and results in negligible to moderate potential environmental impacts that would be less than those under Alternative 5.

Issued in Washington, DC, on this 6th of May 2014.
David W. Geiser,
Director, DOE Office of Legacy Management.

[FR Doc. 2014-10847 Filed 5-9-14; 8:45 am]

BILLING CODE 6450-01-P